DEPARTMENT OF HEALTH AND HUMAN SERVICES

Health Resources and Services Administration

Part C Early Intervention Services Grant Under the Ryan White HIV/AIDS Program

AGENCY: Health Resources and Services Administration (HRSA), Department of Health and Human Services (HHS).

ACTION: Notice of One-Time Non-Competitive Replacement Award, Part C Funds for the Vanderbilt University Medical Center, Nashville, Tennessee. The grant award amount is $706,990.

SUMMARY: HRSA will be awarding to Vanderbilt University Medical Center, Nashville, Tennessee, a one-time non-competitive replacement grant for Part C funds to support comprehensive primary care services for persons living with HIV/AIDS, including primary adult HIV medical care, adult psychiatric and mental health therapy, nurse medical case management focused on treatment adherence, and referrals to specialty medical care. These funds will help to avoid a disruption of HIV clinical care to clients in Nashville, Tennessee, and the surrounding counties.

SUPPLEMENTARY INFORMATION: Grantee of record: Comprehensive Care Center, Nashville, Tennessee.

Intended recipient of the award: Vanderbilt University Medical Center, Nashville, Tennessee.

Amount of the award: $706,990 to ensure ongoing clinical services to the target population.

Authority: Section 2651 of the Public Health Service Act, 42 U.S.C. 300ff-51.

CFDA Number: 93.918.

Project period: July 1, 2012, to June 30, 2013, and the period of support for this award is from July 1, 2012, to June 30, 2013.

Justification for the Exception to Competition: Critical funding for HIV medical care and treatment services to clients in the city of Nashville and its surrounding counties will be continued through a one-time non-competitive replacement funding award to the Vanderbilt University Medical Center. Over the last 2 years, the Vanderbilt University Medical Center managed the Ryan White HIV/AIDS Program through a contractual agreement with the Comprehensive Care Center (CCC), while leasing Vanderbilt University Medical Center employees to CCC under an employee leasing agreement. CCC does not have the infrastructure to continue providing quality HIV care without the Vanderbilt University Medical Center's assistance. This is a one-time replacement funding award. CCC, which previously serviced this population, notified HRSA that it could not continue providing services, as of June 30, 2012. Vanderbilt University Medical Center, a private nonprofit hospital, is the best qualified entity for this one-time grant, as it has the infrastructure to ensure comprehensive services are provided, including adult HIV medical care, adult psychiatric and mental health therapy, nurse medical case management focused on treatment adherence, and referrals to specialty medical care. This one-time grant award will help retain the targeted population in care, with the least amount of disruption while the service area is re-competed.

This one-time replacement funding award will cover the time period from July 1, 2012, through June 30, 2013. This service area will be included in the upcoming competition for the Part C HIV Early Intervention Services for project periods starting July 1, 2013.

FOR FURTHER INFORMATION CONTACT: Dora Ober, by email at dober@hrsa.gov, or by phone at (301) 443-0759.

Dated: September 11, 2012.
Mary K. Wakefield,
Administrator.

[FR Doc. 2012-22742 Filed 9-14-12; 8:45 am]

BILLING CODE 4165-15-P